POSTAL SERVICE

39 CFR Part 111

NetPost Mailing Online Experiment: Introduction of Nonprofit Standard Mail Option

AGENCY: Postal Service.

ACTION: Final rule.

SUMMARY: This final rule sets forth the Domestic Mail Manual (DMM) standards adopted by the Postal Service to introduce an option to mail at Nonprofit Standard Mail rates via the NetPost Mailing Online experiment initiated September 1, 2000.

EFFECTIVE DATE: April 5, 2001.

FOR FURTHER INFORMATION CONTACT: Jerome M. Lease, (703) 292-4184.

SUPPLEMENTARY INFORMATION: On August 29, 2000, the Postal Service announced in the Federal Register that the NetPost Mailing Online experiment is the third of an expected four-step process that will culminate in the establishment of a permanent NetPost Mailing Online service (See 65 FR 52308-52303, (August 29, 2000)). The Postal Service first conducted an operations test from March through September 1998, with a number of customers. That was followed by a one-year market test with limited customer participation conducted from October 1998 through October 1999, pursuant to the Postal Rate Commission's Docket No. MC98-1 Opinion and Recommended Decision issued on October 7, 1998, and approved by the Postal Service Governors on October 16, 1998. In that docket, the Postal Service also requested authorization to conduct an experiment, which request was later withdrawn by Board of Governors Resolution No. 99-5 (May 3, 1999).

The NetPost Mailing Online service is similar to the Mailing Online service that was offered during the market test. Users access the service by means of the Postal Service's main corporate Website, (USPS.com). The service is available nationwide.

NetPost Mailing Online provides an affordable, convenient option that makes using the mails easier for Postal Service customers, especially those running small offices or home offices who do not currently use more traditional mailing services. It employs advanced technology that benefits customers who otherwise might not have access to sophisticated digital printing technology or to list management and presort software necessary to qualify for lower automation rates. The Postal Service batches all submitted jobs and sends them via dedicated lines to one or more commercial digital printing contractors who then print the documents, finish them according to customer specifications, place them in envelopes bearing a delivery point barcode, and enters them as mail at a Business Mail Entry Unit. Mailings are accepted and verified using manifesting documentation and procedures specified in Domestic Mail Manual (DMM) P910.

The experiment currently allows small-volume customers to create First-Class Mail and Standard Mail mailings and have them entered at the automation basic rates. There is no minimum or maximum volume requirement. The service is ideally suited for newsletters, flyers, statements, invoices, and small direct mailings. Customers can mail both letters and flats using a number of different document format, binding, and envelope options.

In a single Website visit to (USPS.com), a NetPost Mailing Online customer is able to upload a word processing document and a list of addresses to a postal data center. The NetPost Mailing Online system presorts and distributes the mailing electronically to contract printers for printing and entry into the mail at a local postal facility. Additional features of the service include online document proofing, a “file cabinet” that retains customer jobs for 30 days and offers document and mailing list management capabilities, real-time status reports of jobs submitted, and a quick calculator that provides immediate price quotations.

This final rule announces the expansion of the NetPost Mailing Online service for mailings of letters and flats at Nonprofit Standard Mail automation rates effective with the date shown above. For additional information concerning system specifications, payment procedures, user assistance, and mail matter classification assistance see 65 FR 52308-52313 (August 29, 2000), and DMM G091.

The Nonprofit Standard Mail option applies to eligible mail matter sent by authorized organizations as listed and defined in DMM E670.2.0 and E670.3.0. Mail matter eligible to be sent at Nonprofit Standard Mail rates by authorized parties is defined in DMM E670.5.0.

This final rule contains the DMM standards adopted by the Postal Service to implement the Nonprofit Standard Mail option. It also corrects a previous omission by adding “cards” to “letters” and “flats” as First-Class Mail options.

List of Subjects in 39 CFR Part 111

Postal Service.

For the reasons discussed above, the Postal Service hereby adopts the following amendments to the Domestic Mail Manual, which is incorporated by reference in the Code of Federal Regulations (see 39 CFR part 111).

PART 111—[AMENDED]

1. The authority citation for 39 CFR part 111 continues to read as follows:

Authority: 5 U.S.C. 552(a); 39 U.S.C. 101, 401, 403, 404, 3001-3011, 3201-3219, 3403-3406, 3621, 3626, 5001.

2. Amend the Domestic Mail Manual as follows:

E Eligibility

* * * * *

E670 Nonprofit Standard Mail

* * * * *

8.0 Authorization—at Additional Offices

8.1 Application

[Amend 8.1 by adding a last sentence that exempts NetPost Mailing Online customers from the requirement to obtain an additional office authorization for their mailings printed and processed at sites other than where the original authorization to mail at Nonprofit Standard Mail rates is held.]

* * * Customers who use NetPost Mailing Online are not required to file Form 3623 for their mailings to be printed and processed at sites other than where the original authorization to mail at Nonprofit Standard Mail rates is held.

* * * * *

G General Information

* * * * *

G090 Experimental Classifications and Rates

* * * * *

G091 NetPost Mailing Online

* * * * *

1.0 Basic Eligibility

* * * * *

1.3 Mailings

[Amend 1.3 c(2) to read as follows; no other changes to text.]

Prepare mailings to be eligible for First-Class Mail, Standard Mail, and Nonprofit Standard Mail automation basic rates as required by standards in E140, E640, and M800.”}

* * * * *

2.0 Mail Classification

* * * * *

2.1 Customer Responsibility

[Amend 2.1 by changing the first and second sentences to read as follows; no other changes to text.]

A customer who uses NetPost Mailing Online service is responsible for claiming the proper rate of postage, subject to the eligibility requirements contained in E100 for First-Class Mail, E600 for Standard Mail, and E600 and E670 for Nonprofit Standard Mail. If the Standard Mail rates or Nonprofit Standard Mail rates are claimed in error, the customer may be required to pay the difference between the claimed rate and the appropriate First-Class Mail or Standard Mail rate, in accordance with the terms and conditions of use for the program.

2.2 Revenue Deficiency Procedures

[Amend 2.2 to read as follows:]

If a classification decision is made by the USPS that matter was ineligible for Standard Mail or Nonprofit Standard Mail rates because of a customer's failure to meet applicable standards, the USPS may take steps to recover the deficiency amount by advising the customer that its credit card account will be billed for the difference between the rate paid and the applicable First-Class Mail rate or Standard Mail rate paid, in accordance with the terms and conditions of use for the program. At such time, the customer also will be advised that the classification decision and related revenue deficiency may be appealed by submitting a letter to the NetPost Mailing Online Program Manager (see G043 for address). If the customer appeals, NetPost Mailing Online will refer it to the Rates and Classification Service Center (RCSC) in Chicago, Illinois, for a final agency decision except in the case of Nonprofit Standard Mail. An RCSC decision upholding a revenue deficiency for Nonprofit Standard Mail may be appealed through the RCSC to the Manager, Mail Preparation and Standards, USPS Headquarters, for a final agency decision.

3.0 Functionally Equivalent Systems

[Amend 3.0 by changing the first sentence to read as follows; no other changes to text.]

NetPost Mailing Online mailings that otherwise meet all addressing and machinability requirements for automation rates are permitted entry at automation rates without meeting required minimum volumes for First-Class Mail, Standard Mail, and Nonprofit Standard Mail mailings.

4.0 Postage and Fees

4.1 Postage

[Amend 4.1a. to read “First-Class Mail, automation basic (letters, cards, and flats).” In addition, amend 4.1 to add the following; no other changes to text.]

d. Nonprofit Standard Mail, automation basic (letters and flats).

* * * * *

This change will be published in a future issue of the Domestic Mail Manual. An appropriate amendment to 39 CFR 111.3 to reflect these changes will be published.

Stanley Mires,
Chief Counsel, Legislative.

[FR Doc. 01-7317 Filed 3-22-01; 8:45 am]

BILLING CODE 7710-12-P